ENVIRONMENTAL PROTECTION AGENCY

[FRL-8723-7]

National Environmental Justice Advisory Council; Notification of Public Meeting and Public Comment

AGENCY: Environmental Protection Agency.

ACTION: Notification of public meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come basis.

DATES: The NEJAC meeting will convene Tuesday, October 21, 2008, from 10:30 a.m. to 5:30 p.m., and reconvene Wednesday, October 22, 2008, from 9 a.m. to 9:30 p.m., and Thursday, October 23, 2008, from 9 a.m. to 3 p.m. One public comment session relevant to the specific issues being considered by the NEJAC (see SUPPLEMENTARY INFORMATION) is scheduled for Wednesday evening, October 22, 2008, from 6:30 p.m. to 9:30 p.m. All noted times are Eastern Time. Members of the public who wish to participate in the public comment period are encouraged to pre-register by October 13, 2008.

ADDRESSES: The NEJAC committee meeting will be held at the Ritz-Canton Hotel, 181 Peachtree Avenue, NE., Atlanta, GA 30303, telephone (404) 659-0400 or (800) 241-3333.

FOR FURTHER INFORMATION CONTACT: Correspondence concerning the meeting should be sent to Ms. Lisa Hammond, U.S. Environmental Protection Agency, at 1200 Pennsylvania Avenue, NW., (MC2201A), Washington, DC 20460; by telephone at (202) 564 0736, via e-mail at hammond.lisa@epa.gov; or by FAX at (202) 564-1624. Additional information about the meeting is available at the Internet Web site: http://www.epa.gov/compliance/environmentaljustice/nejac/meetings.html.

Pre-registration for all attendees is recommended. To register online, visit the Web site above. Requests for pre-registration forms should be sent to Ms. Lisa Hammond at (202) 564-0736 or Hammond.lisa@epa.gov. Non-English speaking attendees wishing to arrange for a foreign language interpreter also may make appropriate arrangements using these numbers.

SUPPLEMENTARY INFORMATION: The Charter of the NEJAC states that the advisory committee shall provide independent advice to the Administrator on areas that may include, among other things, “advice about broad, crosscutting issues related to environmental justice, including environment-related strategic, scientific, technological, regulatory and economic issues related to environmental justice.

The meeting shall be used to receive comments, discuss, and provide recommendations regarding four major areas: (1) Factors to identify and address disproportionate environmental impacts; (2) environmental justice best practices; (3) differential impacts of climate change; and (4) strategies to identify, mitigate, and/or address the disproportionate burden on communities of air pollution resulting from goods movement activities.

A. Public Comment: Individuals or groups making oral presentations during the public comment period will be limited to a total time of five minutes. Only one representative of a community, an organization, or a group will be allowed to speak. Any number of written comments can be submitted for the record. The suggested format for individuals making public comment should be as follows: Name of Speaker, Name of Organization/Community, Address/Telephone/E-mail, Description of Concern and its Relationship to the policy issue(s), and Recommendations or desired outcome. Written comments received by October 10, 2008 will be included in the materials distributed to the members of the NEJAC. Written comments received after that date will be provided to the NEJAC as logistics allow. All information should be sent to the address, e-mail, or fax number listed in the CONTACT section above.

B. Information about Services for Individuals with Disabilities: For information about access or services for individuals with disabilities, please contact Ms. Lisa Hammond at (202) 564-0736 or Hammond.lisa@epa.gov. To request accommodation of a disability, please contact Ms. Hammond, preferably at least 10 days prior to the meeting, to give EPA as much time as possible to process your request. All requests should be sent to the address, e-mail, or fax number listed in the CONTACT section above.

Dated: September 26, 2008.
Charles Lee,
Designated Federal Officer, National Environmental Justice Advisory Council.

[FR Doc. E8-23165 Filed 10-1-08; 8:45 am]

BILLING CODE 6560-50-M